NUCLEAR REGULATORY COMMISSION

[NRC-2008-0122]

Draft Regulatory Guide: Issuance, Availability

AGENCY: Nuclear Regulatory Commission.

ACTION: Notice of Issuance and Availability of Draft Regulatory Guide, DG-1237.

FOR FURTHER INFORMATION CONTACT: Steven F. LaVie, U.S. Nuclear Regulatory Commission, Washington, DC 20555-0001, telephone: (301) 415-1081 or e-mail to Steven.LaVie@nrc.gov.

SUPPLEMENTARY INFORMATION:

I. Introduction

The U.S. Nuclear Regulatory Commission (NRC) is issuing for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Guidance on Making Changes to Emergency Response Plans for Nuclear Power Reactors,” is temporarily identified by its task number, DG-1237, which should be mentioned in all related correspondence. This is a new guide.

The NRC staff's objectives for Title 10, section 50.54(q), of the Code of Federal Regulations (10 CFR 50.54(q)) are to ensure that licensees (1) Follow and maintain the effectiveness of their approved emergency plans, (2) evaluate proposed changes to these plans for their impact on the effectiveness of the plans, and (3) obtain prior NRC approval for changes that would reduce the effectiveness of the plans. These actions are essential if these plans are to continue to provide reasonable assurance that adequate protective measures can and will be taken in the event of a radiological emergency. The NRC is proposing changes to 10 CFR 50.54(q) based on lessons learned from operating experience and at the direction of the Commission. The purpose of this draft guide is to provide guidance on the implementation of proposed revision of 10 CFR 50.54(q) with respect to making changes to emergency response plans. The proposed changes to 10 CFR 50.54(q) can be found at the Federal e-Rulemaking Portal (http://www.regulations.gov) by searching on Docket ID: NRC-2008-0122.

II. Further Information

The NRC staff is soliciting comments on DG-1237. Comments may be accompanied by relevant information or supporting data, and should mention DG-1237 in the subject line. Comments submitted in writing or in electronic form will be made available to the public in their entirety through the NRC's Agencywide Documents Access and Management System (ADAMS).

Personal information will not be removed from the comments. Comments may be submitted by any of the following methods:

1. Mail to: Rulemaking and Directives Branch, Mail Stop: TWB-05-B01M, Office of Administration, U.S. Nuclear Regulatory Commission, Washington, DC 20555-0001.

2. Fax to: Rulemaking and Directives Branch, Office of Administration, U.S. Nuclear Regulatory Commission at (301) 492-3446.

Requests for technical information about DG-1237 may be directed to Steven F. LaVie at (301) 415-1081 or e-mail to Steven.LaVie@nrc.gov.

Comments would be most helpful if received by September 1, 2009. Comments received after that date will be considered if it is practical to do so, but the NRC is able to ensure consideration only for comments received on or before this date. Although a time limit is given, comments and suggestions in connection with items for inclusion in guides currently being developed or improvements in all published guides are encouraged at any time.

Electronic copies of DG-1237 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML090080534.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 7th day of May 2009.
For the Nuclear Regulatory Commission.
Andrea D. Valentin,
Chief, Regulatory Guide Development Branch, Division of Engineering, Office of Nuclear Regulatory Research.

[FR Doc. E9-11390 Filed 5-15-09; 8:45 am]

BILLING CODE 7590-01-P